ENVIRONMENTAL PROTECTION AGENCY

[FRL-9199-3]

Science Advisory Board Staff Office; Notification of a Clean Air Scientific Advisory Committee (CASAC) NOX & SOX Secondary NAAQS Review Panel Meeting

AGENCY: Environmental Protection Agency (EPA).

ACTION: Notice.

SUMMARY: The Environmental Protection Agency (EPA) Science Advisory Board (SAB) Staff Office announces a public meeting of the Clean Air Scientific Advisory Committee NOX and SOX Secondary National Ambient Air Quality Standards (NAAQS) Review Panel (CASAC Panel) to peer review EPA's Policy Assessment for the Review of the Secondary National Ambient Air Quality Standards for NOX and SOX: Second External Review Draft (September 2010).

DATES: The Panel meeting will be held Wednesday, October 6, 2010 from 8:30 a.m. to 5 p.m. and Thursday, October 7, 2010 from 8:30 a.m. to 1 p.m. (Eastern Time).

ADDRESSES: The October 6 and 7, 2010 public meeting will take place at the Marriott at Research Triangle Park, 4700 Guardian Drive, Durham, NC, 27703, telephone (919) 941-6200.

FOR FURTHER INFORMATION CONTACT: Any member of the public who wishes to submit a written or brief oral statement or wants further information concerning the October 6 and 7, 2010 meeting may contact Dr. Angela Nugent, Designated Federal Officer (DFO), EPA Science Advisory Board (1400R), U.S. Environmental Protection Agency, 1200 Pennsylvania Avenue, NW., Washington, DC 20460; via telephone/voice mail (202) 564-2218; fax (202) 565-2098; or e-mail at nugent.angela@epa.gov. General information concerning the CASAC and the CASAC documents can be found on the EPA Web site at http://www.epa.gov/casac.

SUPPLEMENTARY INFORMATION: Background: Pursuant to the Federal Advisory Committee Act (FACA), Public Law 92-463 5 U.S.C., App. 2, notice is hereby given that the CASAC NOX & SOX Secondary NAAQS Review Panel will hold a public meeting to provide advice on the policy implications of welfare standards for NOX and SOX. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel will comply with the provisions of FACA and all appropriate SAB Staff Office procedural policies.

Section 109(d)(1) of the CAA requires that the Agency periodically review and revise, as appropriate, the air quality criteria and the NAAQS for the six “criteria” air pollutants, including NOX and SOX. EPA is in the process of reviewing welfare effects for NOX and SOX as defined in the CAA include, but are not limited to, effects on soils, water, wildlife, vegetation, visibility, weather, and climate, as well as effects on materials, economic values, and personal comfort and well-being.

The CASAC NOX & SOX Secondary NAAQS Review Panel has provided advice and review of EPA's review of the secondary NAAQS for NOX and SOX since 2008. Information about these activities can be found on the CASAC Web site at http://yosemite.epa.gov/sab/sabproduct.nsf/WebProjectsbyTopicCASAC Open View. Most recently, the CASAC NOX & SOx Secondary NAAQS Review Panel held a meeting on April 1 and 2, 2010, at the request of EPA's Office of Air and Radiation to review EPA's draft document entitled Policy Assessment for the Review of the Secondary National Ambient Air Quality Standards for NOX and SOX: First External Review Draft (March 2010) (75 FR 10479-10481). CASAC provided EPA with an advisory report reviewing that draft document on June 22, 2010 [Review of the Policy Assessment for the Review of the Secondary National Ambient Air Quality Standards for NOX and SOX: First Draft (March 2010) (EPA-CASAC-10-014)], available at http://yosemite.epa.gov/sab/sabproduct.nsf/33219585C42C55218525777A006DE787/$File/EPA-CASAC-10-014-unsigned.pdf.

EPA has revised the draft Policy Assessment in light of CASAC's comments and has requested review of a second draft. The panel will meet on October 6 and 7, 2010 to review the second draft Policy Assessment.

Technical Contacts: Any questions concerning EPA's Policy Assessment for the Review of the Secondary National Ambient Air Quality Standards for NOX and SOX: Second External Review Draft (September 2010) should be directed to Dr. Byran Hubbell, OAR, at 919-541-0621 or hubbell.bryan@epa.gov.

Availability of Meeting Materials: EPA-OAR's Policy Assessment for the Review of the Secondary National Ambient Air Quality Standards for NOX and SOX: Second External Review Draft (September 2010) will be accessible at http://www.epa.gov/ttn/naaqs/standards/no2so2sec/index.html. The agenda and other materials for the CASAC meetings will be posted on the CASAC Web site at http://www.epa.gov/casac.

Procedures for Providing Public Input: Public comment for consideration by EPA's federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: To be placed on the public speaker list for the October 6 and 7, 2010 meeting, interested parties should notify Dr. Angela Nugent, DFO, by e-mail no later than October 1, 2010. Written Statements: Written statements should be received in the SAB Staff Office by October 1, 2010 so that the information may be made available to the CASAC Panel for its consideration prior to this meeting. Written statements should be supplied to the appropriate DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Nugent at the phone number or e-mail address noted above, preferably at least ten days prior to the meeting, to give EPA as much time as possible to process your request.

Dated: September 1, 2010.
Anthony F. Maciorowski,
Deputy Director, EPA Science Advisory Board Staff Office.

[FR Doc. 2010-22485 Filed 9-8-10; 8:45 am]

BILLING CODE 6560-50-P